DEPARTMENT OF TRANSPORTATION

Federal Aviation Administration

Notice of Submission Deadline for Schedule Information for O'Hare International Airport, John F. Kennedy International Airport, and Newark Liberty International Airport for the Winter 2010 Scheduling Season

AGENCY: Department of Transportation, Federal Aviation Administration (FAA).

ACTION: Notice of submission deadline.

SUMMARY: Under this notice, the FAA announces the submission deadline of May 13, 2010, for Winter 2010 flight schedules at Chicago's O'Hare International Airport (ORD), New York's John F. Kennedy International Airport (JFK), and Newark Liberty International Airport (EWR) in accordance with the International Air Transport Association (IATA) Worldwide Scheduling Guidelines and FAA orders limiting scheduled operations. The deadline of May 13, 2010, coincides with the schedule submission deadline for the IATA 126th Schedules Conference. The U.S. winter scheduling season for these airports is from October 31, 2010, through March 26, 2011.

SUPPLEMENTARY INFORMATION: The FAA has designated ORD as an IATA Level 2, Schedules Facilitated Airport, and JFK and EWR as Level 3, Coordinated Airports. The scheduled operations at JFK and EWR are currently limited by FAA orders.¹ The FAA is primarily concerned about planned operations during peak hours but carriers may submit schedule plans for the entire day. At ORD, the peak hours are 7 a.m. to 9 p.m. Central Time and at EWR and JFK from 6 a.m. to 11 p.m. Eastern Time. Schedule information should include all planned commercial operations including passenger, charter, and cargo flights. Carriers must submit schedule information in sufficient detail to include at minimum, the operating carrier, airline designator code, flight number, scheduled time of operation, frequency, and effective dates. The FAA encourages the use of IATA standard schedule information format and data elements in the IATA Standard Schedules Information Manual.

¹ Order Limiting Scheduled Operations at John F. Kennedy International Airport, 73 FR 3,510 (Jan. 18, 2008); 73 FR 8,737 (Feb. 14, 2008); 74 FR 51,650 (Oct. 7, 2009), (amendments to order). Order Limiting Scheduled Operations at Newark Liberty International Airport, 73 FR 29,550 (May 21, 2008); 74 FR 51,648 (Oct. 7, 2009), (amendment to order).

DATES: Schedules must be submitted no later than May 13, 2010.

ADDRESSES: Schedules may be submitted to the Slot Administration Office by e-mail to: 7-AWA-slotadmin@faa.gov; facsimile: 202-267-7277; ARINC: DCAYAXD; or mail to Slot Administration Office, AGC-240, Office of the Chief Counsel, 800 Independence Ave., SW., Washington, DC 20591.

FOR FURTHER INFORMATION CONTACT: Rebecca MacPherson, Assistant Chief Counsel for Regulations, Office of the Chief Counsel, AGC-40, Federal Aviation Administration, 800 Independence Avenue, SW., Washington, DC 20591; telephone number: 202-267-3073 or e-mail: rebecca.macpherson@faa.gov.

Issued in Washington, DC, on April 14, 2010.
Rebecca B. MacPherson,
Assistant Chief Counsel for Regulations.

[FR Doc. 2010-9029 Filed 4-19-10; 8:45 am]

BILLING CODE 4910-13-P